DEPARTMENT OF HEALTH AND HUMAN SERVICES

White House Initiative on Asian Americans and Pacific Islanders President's Advisory Commission; Notice of Meeting

In accordance with section 10(a)(2) of the Federal Advisory Committee Act (Public Law 92-463), announcement is made of the following National Advisory body scheduled to conduct a public meeting during the month of October 2002.

Name: President's Advisory Commission on Asian Americans and Pacific Islanders (Commission).

Date and Time: October 11, 2002; 12:30 a.m.-5 p.m. HST.

Location: Hawaii State Capitol, State Capitol Auditorium, 415 S. Beretania Street, Honolulu, HI 96813.

The meeting is open to the public.

The President's Advisory Commission on Asian Americans and Pacific Islanders (AAPIs) will conduct a public meeting on October 11, 2002, from 12:30 p.m. to 5 p.m. HST inclusive.

Agenda items will include, but will not be limited to: testimony from community-based organizations and individuals; testimony from federal, state and local agencies; comments from the public; administrative tasks; deadlines; and upcoming events.

The purpose of the Commission is to advise and make recommendations to the President on ways to increase opportunities for and improve the quality of life of approximately thirteen million AAPIs living in the United States and the U.S.-associated Pacific Island jurisdictions, especially those that are the most underserved.

Requests to address the Commission should be made in writing and should include the name, address, telephone number and business or professional affiliation of the interested party. Individuals or groups addressing similar issues are encouraged to combine comments and make their request to address the Commission through a single representative. The allocation of time for remarks may be adjusted to accommodate the level of expressed interest. Written requests should be faxed to (301) 443-0259.

Anyone who has interest in joining any portion of the meeting or who requires additional information about the Commission should contact: Ms. Betty Lam or Mr. Erik F. Wang, Office of the White House Initiative on AAPIs, Parklawn Building, Room 10-42, 5600 Fishers Lane, Rockville, MD 20857, Telephone (301) 443-2492. Anyone who requires special assistance, such as sign language interpretation or other reasonable accommodations, should contact Mr. Wang no later than October 4, 2002.

Dated: September 27, 2002.
Christopher J. McCabe,
Director, Office of Intergovernmental Affairs.

[FR Doc. 02-25118 Filed 10-2-02; 8:45 am]

BILLING CODE 4165-15-P